DEPARTMENT OF TRANSPORTATION

Federal Aviation Administration

RTCA Special Committee 147: Minimum Operational Performance Standards for Traffic Alert and Collision Avoidance Systems Airborne Equipment

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment.

DATES: The meeting will be held September 29, 2005 starting at 9 a.m.

ADDRESSES: The meeting will be held at RTCA, Inc., 1828 L Street, NW., Suite 805, Washington, DC 20036.

FOR FURTHER INFORMATION CONTACT: RTCA Secretariat, 1140 Connecticut Avenue, NW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 147 meeting. The agenda will include:

• September 29:

• Opening Session (Welcome and Introductory Remarks, Review/Approve meeting agenda for 60th meeting, Review/Approve Summary of Previous Meeting, Review of Open Action Items).

• SC-147 Activity Reports.

• Surveillance Working Group: Hybrid Surveillance MOPS.

• Operations Working Group: “Adjust Vertical Speed, Adjust” Ras.

• Requirements Working Group (RWG).

• Resolution of final comments and approval of the RWG Report: “Safety Analysis of Proposed Change to TCAS RA Reversal Logic”.*

• Closing Session (Future Actions/Activities, Date and Place of Next Meeting, Adjourn).

*Contact RTCA for a copy of the Final Review and Comment draft of the RWG report, which has been distributed to SC-147 members prior to the meeting. Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 30, 2005.
Natalie Ogletree,
FAA General Engineer, RTCA Advisory Committee.

[FR Doc. 05-18156 Filed 9-12-05; 8:45 am]

BILLING CODE 4910-13-M